DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for Thursday, February 10, 2005, starting at 8:30 a.m. Arrange for oral presentations by February 8, 2005.

ADDRESSES: The Boeing Company, 1200 Wilson Boulevard, Room 234, Arlington, VA.

FOR FURTHER INFORMATION CONTACT: John Linsenmeyer, Office of Rulemaking, ARM-207, FAA, 800 Independence Avenue, SW., Washington, DC 20591, Telephone (202) 267-5174, FAX (202) 267-5075, or e-mail at john.linsenmeyer@faa.gov.

SUPPLEMENTARY INFORMATION: Pursuant to section 10(a)(2) of the Federal Advisory Committee Act (Pub. L. 92-463; 5 U.S.C. app. III), notice is given of an ARAC meeting to be held February 10, 2005 at The Boeing Company in Arlington, Virginia.

The agenda will include:

• Opening Remarks.

• FAA Report.

• European Aviation Safety Agency Report.

• Transport Canada Report.

• Executive Committee Report.

• Ice Protection Harmonization Working Group (HWG) Report.

• Airworthiness Assurance HWG Report.

• Avionics Systems HWG Report.

• § 25.1309 Summary of Recent Activity on Specific Risk.

• Written or verbal reports, as required, from the following HWGs: General Structures, Engine, Electromagnetic Effects, Flight Test, Seat Test, Flight Control, Flight Guidance, System Design and Analysis, Electrical Systems, Design for Security, Powerplant Installation, Mechanical Systems, and Human Factors.

• Review of Action Items and 2005 Meeting Schedule.

Attendance is open to the public, but will be limited to the availability of meeting room space. Please confirm your attendance with the person listed in the FOR FURTHER INFORMATION CONTACT section no later than February 8, 2005. Please provide the following information: Full legal name, country of citizenship, and name of your industry association, or applicable affiliation. If you are attending as a public citizen, please indicate so.

For persons participating domestically by telephone, the call-in number is (425) 717-7000; the Passcode is “36952#.” Details are also available on the ARAC calendar at http://www.faa.gov/avr/arm/arac/calendarxml.cfm. To insure that sufficient telephone lines are available, please notify the person listed in the FOR FURTHER INFORMATION CONTACT section of your intent by February 8. Anyone participating by telephone will be responsible for paying long-distance charges.

The public must make arrangements by February 8 to present oral statements at the meeting. Written statements may be presented to the committee at any time by providing 25 copies to the person listed in the FOR FURTHER INFORMATION CONTACT section or by providing copies at the meeting. Copies of the document to be presented to ARAC for decision by the FAA may be made available by contacting the person listed in the FOR FURTHER INFORMATION CONTACT section.

If you are in need of assistance or require a reasonable accommodation for the meeting or meeting documents, please contact the person listed in the FOR FURTHER INFORMATION CONTACT section. Sign and oral interpretation, as well as a listening device, can be made available if requested 10 calendar days before the meeting.

Issued in Washington, DC on January 11, 2005.
Tony F. Fazio,
Director, Office of Rulemaking.

[FR Doc. 05-1058 Filed 1-19-05; 8:45 am]

BILLING CODE 4910-15-P